SMALL BUSINESS ADMINISTRATION

Interest Rates

The Small Business Administration publishes an interest rate called the optional “peg” rate (13 CFR 120.214) on a quarterly basis. This rate is a weighted average cost of money to the government for maturities similar to the average SBA direct loan. This rate may be used as a base rate for guaranteed fluctuating interest rate SBA loans. This rate will be 6.375 (6 ⅜) percent for the July-September quarter of FY 2000.

Arnold S. Rosenthal,
Acting Deputy Associate Administrator for Financial Assistance.

[FR Doc. 00-18272 Filed 7-18-00; 8:45 am]

BILLING CODE 8025-01-P